DEPARTMENT OF THE INTERIOR

Fish and Wildlife Service

[FWS-R8-ES-2013-N045: FXES11130800000-134-FF08E00000]

Endangered and Threatened Wildlife and Plants; Initiation of 5-Year Reviews of 56 Species in California and Nevada

AGENCY: Fish and Wildlife Service, Interior.

ACTION: Notice of initiation of reviews; request for information.

SUMMARY: We, the U.S. Fish and Wildlife Service, are initiating 5-year status reviews under the Endangered Species Act of 1973, as amended (Act), of 18 animal species and 38 plant species. A 5-year status review is based on the best scientific and commercial data available at the time of the review; therefore, we are requesting submission of any such information that has become available since the last review for the species. In this notice, we also announce 5-year reviews that were completed for 27 species in California and Nevada between March 1, 2012, and January 31, 2013.

DATES: To ensure consideration, we are requesting submission of new information no later than May 31, 2013. However, we will continue to accept new information about any listed species at any time.

ADDRESSES: For how to submit information, see Request for Information and “How Do I Ask Questions or Provide Information?” in the SUPPLEMENTARY INFORMATION section.

FOR FURTHER INFORMATION CONTACT: For information on a particular species, contact the appropriate person or office listed in the table in the SUPPLEMENTARY INFORMATION section.

SUPPLEMENTARY INFORMATION:

Why do we conduct a 5-year review?

Under the Act (16 U.S.C. 1531 et seq.), we maintain Lists of Endangered and Threatened Wildlife and Plants (which we collectively refer to as the List) in the Code of Federal Regulations (CFR) at 50 CFR 17.11 (for animals) and 17.12 (for plants). Section 4(c)(2)(A) of the Act requires us to review each listed species' status at least once every 5 years. Our regulations at 50 CFR 424.21 require that we publish a notice in the Federal Register announcing those species under active review. For additional information about 5-year reviews, go to http://www.fws.gov/endangered/what-we-do/recovery-overview.html, scroll down to “Learn More about 5-Year Reviews,” and click on our factsheet.

What information do we consider in our review?

A 5-year review considers all new information available at the time of the review. In conducting these reviews, we consider the best scientific and commercial data that have become available since the listing determination or most recent status review, such as:

(A) Species biology, including but not limited to population trends, distribution, abundance, demographics, and genetics;

(B) Habitat conditions, including but not limited to amount, distribution, and suitability;

(C) Conservation measures that have been implemented that benefit the species;

(D) Threat status and trends in relation to the five listing factors (as defined in section 4(a)(1) of the Act); and

(E) Other new information, data, or corrections, including but not limited to taxonomic or nomenclatural changes, identification of erroneous information contained in the List, and improved analytical methods.

Any new information will be considered during the 5-year review and will also be useful in evaluating the ongoing recovery programs for the species.

Which species are under review?

This notice announces our active review of the species listed in the table below.

Common name | Scientific name | Listing status | Where listed | Final listing rule (Federal Register citation and publication date) | Contact person, phone, email | Contact person's U.S. mail address
ANIMALS
Beetle, delta green ground | Elaphrus viridis | Threatened | U.S.A. (CA) | 45 FR 52807; 08/08/1980 | Josh Hull, Recovery Division Chief, 916-414-6600 (phone); fw1sfo5year@ fws.gov (email) | U.S. Fish and Wildlife Service, Sacramento Fish and Wildlife Office, 2800 Cottage Way, Room W-2605, Sacramento, CA 95825.
Butterfly, bay checkerspot | Euphydryas editha bayensis | Threatened | U.S.A. (CA) | 49 FR 45160; 11/15/1984 | Josh Hull (above).
Butterfly, callippe silverspot | Speyeria callippe callippe | Endangered | U.S.A. (CA) | 62 FR 64306; 12/05/1997 | Josh Hull (above).
Butterfly, Myrtle's silverspot | Speyeria zerene myrtleae | Endangered | U.S.A. (CA) | 57 FR 27848; 06/22/1992 | Josh Hull (above).
Chub, Mohave tui | Gila bicolor mohavensis = Siphaletes bicolor mohavensis | Endangered | U.S.A. (CA) | 35 FR 16047; 10/13/1970 | Mike McCrary, Listing and Recovery Coordinator—Wildlife, 805-644-1766 (phone); fw8vfwo5year@ fws.gov (email) | U.S. Fish and Wildlife Service, Ventura Fish and Wildlife Office, 2493 Portola Road, Suite B, Ventura, CA 93003.
Chub, Owens tui | Siphateles bicolor snyderi = Gila bicolor snyderi | Endangered | U.S.A. (CA) | 50 FR 31592; 09/05/1985 | Mike McCrary (above).
Crayfish, Shasta | Pacifastacus fortis | Endangered | U.S.A. (CA) | 53 FR 38460; 09/30/1988 | Josh Hull (above).
Mountain beaver, Point Arena | Aplodontia rufa nigra | Endangered | U.S.A. (CA) | 56 FR 64716; 12/12/1991 | John Hunter, Fish and Wildlife Biologist, 707-822-7201 (phone); arcata@fws.gov (email) | U.S. Fish and Wildlife Service, Arcata Fish and Wildlife Office, 1655 Heindon Road, Arcata, CA 95521.
Pupfish, Owens | Cyprinodon radiosus | Endangered | U.S.A. (CA) | 32 FR 4001; 03/11/1967 | Mike McCrary (above).
Rail, light-footed clapper | Rallus longirostris levipes | Endangered | U.S.A. (CA), Mexico (Baja California) | 34 FR 5034; 03/08/1969 | Bradd Baskerville-Bridges, 760-431-9440 (phone); fw8cfwocomments@ fws.gov (email) | U.S. Fish and Wildlife Service, Carlsbad Fish and Wildlife Office, 6010 Hidden Valley Road, Suite 101, Carlsbad, CA 92011.
Salamander, desert slender | Batrachoseps aridus | Endangered | U.S.A. (CA) | 38 FR 14678; 06/04/1973 | Bradd Baskerville-Bridges (above).
Salamander, Santa Cruz long-toed | Ambystoma macrodactylum croceum | Endangered | U.S.A. (CA) | 32 FR 4001; 03/11/1967 | Mike McCrary (above).
Shrike, San Clemente loggerhead | Lanius ludovicianus mearnsi | Endangered | U.S.A. (CA) | 42 FR 40682; 08/11/1977 | Bradd Baskerville-Bridges (above).
Sparrow, San Clemente sage | Amphispiza belli clementeae | Threatened | U.S.A. (CA) | 42 FR 40682; 08/11/1977 | Bradd Baskerville-Bridges (above).
Springfish, Railroad Valley | Crenichthys nevadae | Threatened | Wherever found | 51 FR 10857; 3/31/1987 | Ted Koch, Field Supervisor, 775-861-6300 (phone); fw1nfwo_5yr@fws.gov (email) | U.S. Fish and Wildlife Service, Nevada Fish and Wildlife Office, 1340 Financial Blvd., Suite 234, Reno, Nevada 89502.
Stickleback, unarmored threespine | Gasterosteus aculeatus williamsoni | Endangered | U.S.A. (CA) | 35 FR 16047; 10/13/1970 | Mike McCrary (above).
Trout, Lahontan cutthroat | Oncorhynchus clarkii henshawi | Threatened | Wherever found | 40 FR 29863; 07/16/1975 | Ted Koch (above).
Vole, Amargosa | Microtus californicus scirpensis | Endangered | U.S.A. (CA) | 49 FR 45160; 11/15/1984 | Mike McCrary (above).

Scientific name | Common name | Listing status | Where listed | Final listing rule (Federal Register citation and publication date) | Contact person, phone, email | Contact person's U.S. mail address
PLANTS
Acanthomintha ilicifolia | San Diego thornmint | Threatened | U.S.A. (CA), Mexico | 63 FR 54938; 10/13/1998 | Bradd Baskerville-Bridges (above).
Acanthoscyphus (Oxytheca) parishii var. goodmaniana | Cushenbury oxytheca | Endangered | U.S.A. (CA) | 59 FR 43562; 08/24/1994 | Bradd Baskerville-Bridges (above).
Allium munzii | Munz's onion | Endangered | U.S.A. (CA) | 63 FR 54975; 10/13/1998 | Bradd Baskerville-Bridges (above).
Amsinckia grandiflora | Large-flowered fiddleneck | Endangered | U.S.A. (CA) | 50 FR 19374; 05/08/1985 | Josh Hull (above).
Astragalus albens | Cushenbury milk-vetch | Endangered | U.S.A. (CA) | 59 FR 43562; 08/24/1994 | Bradd Baskerville-Bridges (above).
Astragalus brauntonii | Braunton's milk-vetch | Endangered | U.S.A. (CA) | 62 FR 4172; 12/01/1997 | Connie Rutherford, Listing and Recovery Coordinator—Plants, 805-644-1766 (phone); fw8vfwo5year@fws.gov (email) | U.S. Fish and Wildlife Service, Ventura Fish and Wildlife Office, 2493 Portola Road, Suite B, Ventura, CA 93003.
Astragalus clarianus | Clara Hunt's milk-vetch | Endangered | U.S.A. (CA) | 62 FR 54791; 10/22/1997 | Josh Hull (above).
Astragalus lentiginosus var. piscinensis | Fish slough milk-vetch | Endangered | U.S.A. (CA) | 63 FR 53596, 06/10/1998 | Connie Rutherford (above).
Astragalus phoenix | Ash Meadows milk-vetch | Threatened | Wherever found | 50 FR 20777; 05/20/1985 | Ted Koch (above).
Astragalus tener var. titi | Coastal dunes milk-vetch | Endangered | U.S.A. (CA) | 63 FR 43100; 08/12/1998 | Connie Rutherford (above).
Camissonia benitensis | San Benito evening-primrose | Endangered | U.S.A. (CA) | 50 FR 5755; 02/12/1985 | Connie Rutherford (above).
Carex albida | White sedge | Endangered | U.S.A. (CA) | 62 FR 54791; 10/22/1997 | Josh Hull (above).
Centaurium namophilum | Spring-loving centaury | Threatened | Wherever found | 50 FR 20777; 0/20/1985 | Ted Koch (above).
Chamaesyce hooveri | Hoover's spurge | Threatened | U.S.A. (CA) | 62 FR 14338; 03/26/1997 | Josh Hull (above).
Chorizanthe pungens var. pungens | Monterey spineflower | Threatened | U.S.A. (CA) | 59 FR 5499; 04/02/1994 | Connie Rutherford (above).
Cirsium hydrophilum var. hydrophilum | Suisun thistle | Endangered | U.S.A. (CA) | 62 FR 61916; 11/20/1997 | Josh Hull (above).
Clarkia speciosa var. immaculata | Pismo clarkia | Endangered | U.S.A. (CA) | 59 FR 64613; 12/15/1994 | Connie Rutherford (above).
Clarkia springvillensis | Springville clarkia | Threatened | U.S.A. (CA) | 63 FR 49022; 09/14/1998 | Josh Hull (above).
Cordylanthus maritimus subsp. maritimus | Salt marsh bird's beak | Endangered | U.S.A. (CA), Mexico (Baja California) | 43 FR 44810; 09/29/1978 | Bradd Baskerville-Bridges (above).
Cordylanthus mollis subsp. mollis | Soft bird's-beak | Endangered | U.S.A. (CA) | 62 FR 61916; 11/20/1997 | Josh Hull (above).
Cordylanthus palmatus | Palmate-bracted bird's-beak | Endangered | U.S.A. (CA) | 51 FR 23765; 04/01/1986 | Josh Hull (above).
Deinandra (Hemizonia) conjugens | Otay tarplant | Threatened | U.S.A. (CA), Mexico | 63 FR 54938; 10/13/1998 | Bradd Baskerville-Bridges (above).
Dudleya abramsii subsp. parva | Conejo dudleya | Endangered | U.S.A. (CA) | 62 FR 4172; 01/29/1997 | Connie Rutherford (above).
Erigeron parishii | Parish's daisy | Threatened | U.S.A. (CA) | 59 FR 43562; 08/24/1994 | Bradd Baskerville-Bridges (above).
Eriogonum ovalifolium var. vineum | Cushenbury buckwheat | Endangered | U.S.A. (CA) | 59 FR 43562; 08/24/1994 | Bradd Baskerville-Bridges (above).
Eriogonum ovalifolium var. williamsiae | Steamboat buckwheat | Endangered | Wherever found | 51 FR 24669; 07/08/1986 | Ted Koch (above).
Eryngium constancei | Loch Lomond coyote-thistle | Endangered | U.S.A. (CA) | 51 FR 45904; 12/23/1986 | Josh Hull (above).
Lilium occidentale | Western lily | Endangered | U.S.A. (CA, OR) | 59 FR 42171; 08/17/1994 | Gary Falxa, Fish and Wildlife Biologist, 707-822-7201 (phone); arcata@fws.gov (email) | U.S. Fish and Wildlife Service, Arcata Fish and Wildlife Office, 1655 Heindon Road, Arcata, CA 95521.
Lilium pardalinum subsp. pitkinense | Pitkin Marsh lily | Endangered | U.S.A. (CA) | 62 FR 54791; 10/22/1997 | Josh Hull (above).
Navarretia fossalis | Spreading navarretia | Threatened | U.S.A. (CA), Mexico (Baja California) | 63 FR 54975; 10/13/1998 | Bradd Baskerville-Bridges (above).
Navarretia leucocephala subsp. plieantha | Many-flowered navarretia | Endangered | U.S.A. (CA) | 62 FR 33029; 06/18/1997 | Josh Hull (above).
Orcuttia pilosa | Hairy Orcutt grass | Endangered | U.S.A. (CA) | 62 FR 14338; 03/26/1997 | Josh Hull (above).
Parvisedum leiocarpum | Lake County stonecrop | Endangered | U.S.A. (CA) | 62 FR 33029; 06/18/1997 | Josh Hull (above).
Physaria (Lesquerella) kingii subsp. bernardina | San Bernardino Mountains bladderpod | Endangered | U.S.A. (CA) | 59 FR 43562; 08/24/1994 | Bradd Baskerville-Bridges (above).
Potentilla hickmanii | Hickman's potentilla | Endangered | U.S.A. (CA) | 63 FR 43100; 08/08/1998 | Connie Rutherford (above).
Sidalcea oregana subsp. valida | Kenwood Marsh checker-mallow | Endangered | U.S.A. (CA) | 62 FR 54791; 10/22/1997 | Josh Hull (above).
Thysanocarpus conchuliferus | Santa Cruz Island fringepod | Endangered | U.S.A. (CA) | 61 FR 40954; 07/31/1997 | Connie Rutherford (above).
Tuctoria mucronata | Solano grass | Endangered | U.S.A. (CA) | 43 FR 44810; 09/28/1978 | Josh Hull (above).

Request for Information

To ensure that a 5-year review is complete and based on the best available scientific and commercial information, we request new information from all sources. See “What Information Do We Consider in Our Review?” for specific criteria. If you submit information, please support it with documentation such as maps, bibliographic references, methods used to gather and analyze the data, and/or copies of any pertinent publications, reports, or letters by knowledgeable sources.

How do I ask questions or provide information?

If you wish to provide information for any species listed above, please submit your comments and materials to the appropriate contact in the table above. You may also direct questions to those contacts. Individuals who are hearing impaired or speech impaired may call the Federal Relay Service at 800-877-8339 for TTY assistance.

Public Availability of Submissions

Before including your address, phone number, email address, or other personal identifying information in your comment, you should be aware that your entire comment—including your personal identifying information—may be made publicly available at any time. While you can ask us in your comment to withhold your personal identifying information from public review, we cannot guarantee that we will be able to do so.

Comments and materials received will be available for public inspection, by appointment, during normal business hours at the offices where the comments are submitted.

Completed 5-Year Reviews

We also take this opportunity to inform the public of 5-year reviews that we completed between March 1, 2012, and January 31, 2013, for 27 species in California and Nevada. Reviews for these 27 species can be found at http://www.fws.gov/endangered/species/index.html.

Common name | Scientific name | Lead fish and wildlife office | Contact
ANIMALS
Butterfly, Behren's silverspot | Speyeria zerene behrensii | Arcata | Kathleen Brubaker, 707-822-7201 (phone).
Dace, Clover Valley speckled | Rhinichthys osculus oligoporus | Nevada | Ted Koch, 775-861-6300 (phone).
Dace, desert | Eremichthys acros | Nevada | Ted Koch (above).
Fairy shrimp, Conservancy | Branchinecta conservatio | Sacramento | Josh Hull, 916-414-6600 (phone).
Fairy shrimp, longhorn | Branchinecta longiantenna | Sacramento | Josh Hull (above).
Frog, mountain yellow-legged | Rana muscosa | Carlsbad | Bradd Baskerville-Bridges, 760-431-9440 (phone).
Lizard, Island night | Xantusia riversiana | Carlsbad | Bradd Baskerville-Bridges (above).
Skipper, Carson wandering | Pseudocopaeodes eunus obscurus | Nevada | Ted Koch (above).
Snake, giant garter | Thamnophis gigas | Sacramento | Josh Hull (above).
Springfish, Hiko White River | Crenichthys baileyi grandis | Nevada | Ted Koch (above).
Springfish, White River | Crenichthys baileyi baileyi | Nevada | Ted Koch (above).
Woodrat, riparian | Neotoma fuscipes riparia | Sacramento | Josh Hull (above).
PLANTS
Arctostaphylos hookeri var. ravenii | Presidio manzanita | Sacramento | Josh Hull (above).
Brodiaea pallida | Chinese Camp brodiaea | Sacramento | Josh Hull (above).
Castilleja affinis ssp. neglecta | Tiburon paintbrush | Sacramento | Josh Hull (above).
Castilleja grisea | San Clemente Island Indian paintbrush | Carlsbad | Bradd Baskerville-Bridges (above).
Delphinium bakeri | Baker's larkspur | Sacramento | Josh Hull (above).
Dudleya traskiae | Santa Barbara Island liveforever (dudleya) | Sacramento | Josh Hull (above).
Lessingia germanorum var. germanorum | San Francisco lessingia | Sacramento | Josh Hull (above).
Lotus dendroideus var. traskiae | San Clemente Island broom (lotus) | Carlsbad | Bradd Baskerville-Bridges (above).
Malacothamnus clementinus | San Clemente Island bush-mallow | Carlsbad | Bradd Baskerville-Bridges (above).
Malacothamnus fasciculatus var. nesioticus | Santa Cruz Island bush-mallow | Ventura | Connie Rutherford, 805-644-1766 (phone).
Sibara filifola | Santa Cruz Island rock-cress | Carlsbad | Bradd Baskerville-Bridges (above).
Sidalcea keckii | Keck's checkermallow | Sacramento | Josh Hull (above).
Trifolium amoenum | Showy Indian clover | Sacramento | Josh Hull (above).
Verbena californica | Red Hills vervain | Sacramento | Josh Hull (above).
Monardella viminea | Willowy monardella | Carlsbad | Bradd Baskerville-Bridges (above).

Authority

This document is published under the authority of the Endangered Species Act of 1973, as amended (16 U.S.C. 1531 et seq.).

Dated: March 26, 2013.
Alexandra Pitts,
Regional Director, Pacific Southwest Region.

[FR Doc. 2013-07495 Filed 3-29-13; 8:45 am]

BILLING CODE 4310-55-P